DEPARTMENT OF LABOR

Employment and Training Administration

[TA-W-60,878]

Kimberly-Clark Global Sales, Inc.; Neenah, Wisconsin; Notice of Termination of Investigation

Pursuant to Section 221 of the Trade Act of 1974, as amended, an investigation was initiated on February 1, 2007, in response to a worker petition filed by a company official on behalf of workers at Kimberly-Clark Global Sales, Inc., Neenah, Wisconsin.

The petitioning group of workers is covered by a duplicate petition (TA-W-60,835) filed on May 24, 2006 that is the subject of an ongoing investigation for which a determination has not yet been issued. Further investigation in this case would duplicate efforts and serve no purpose; therefore the investigation under this petition has been terminated.

Signed in Washington, DC, this 6th day of February, 2007.
Richard Church,
Certifying Officer, Division of Trade Adjustment Assistance.

[FR Doc. E7-2475 Filed 2-13-07; 8:45 am]

BILLING CODE 4510-FN-P